FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than November 9, 2010.

A. Federal Reserve Bank of Philadelphia (Michael E. Collins, Senior Vice President) 100 North 6th Street, Philadelphia, Pennsylvania 19105-1521:

1. Warburg Pincus Private Equity S, L.P., New York, New York; to acquire voting shares of National Penn Bancshares, Inc., and thereby indirectly acquire voting shares of National Penn Bank, both of Boyertown, Pennsylvania.

Board of Governors of the Federal Reserve System, October 20, 2010.
Robert deV. Frierson,
Deputy Secretary of the Board.

[FR Doc. 2010-26867 Filed 10-22-10; 8:45 am]

BILLING CODE 6210-01-P